RAILROAD RETIREMENT BOARD

Agency Forms Submitted for OMB Review, Request for Comments

Summary: In accordance with the Paperwork Reduction Act of 1995 (44 U.S.C. Chapter 35), the Railroad Retirement Board (RRB) is forwarding an Information Collection Request (ICR) to the Office of Information and Regulatory Affairs (OIRA), Office of Management and Budget (OMB) to request a revision to the following collection of information: 3220-0039, RUIA Applications, consisting of RRB Form(s) S1-1a, Application for Sickness Benefits; SI-1b, Statement of Sickness; SI-3, Claim for Sickness Benefits; SI-7, Supplemental Doctor's Statement; SI-8, Verification of Medical Information; ID-7h, Non-Entitlement to Sickness Benefits; ID-11a, Requesting Reason for Late Filing of Sickness Benefit; and ID-11b, Notice of Insufficient Medical and Late Filing. Our ICR describes the information we seek to collect from the public. Completion is required to obtain or retain benefits. One response is required of each respondent. Review and approval by OIRA ensures that we impose appropriate paperwork burdens.

The RRB invites comments on the proposed collection of information to determine (1) The practical utility of the collection; (2) the accuracy of the estimated burden of the collection; (3) ways to enhance the quality, utility and clarity of the information that is the subject of collection; and (4) ways to minimize the burden of collections on respondents, including the use of automated collection techniques or other forms of information technology. Comments to RRB or OIRA must contain the OMB control number of the ICR. For proper consideration of your comments, it is best if RRB and OIRA receive them within 30 days of publication date.

Previous Requests for Comments: The RRB has already published the initial 60-day notice (71 FR No. 236 Pages 71198-71199 on December 8, 2006) required by 44 U.S.C. 3506(c)(2). That request elicited no comments.

Information Collection Request (ICR)

Title: Railroad Unemployment Insurance Act Applications.

OMB Control Number: 3220-0039.

Form(s) submitted: SI-1a, SI-1b, SI-3, SI-7, SI-8, ID-7H, ID-11A, ID-11B,

Type of request: Revision of a currently approved collection.

Affected public: Individuals or households, Business or other for-profit.

Abstract: Under Section 2 of the Railroad Unemployment Insurance Act, sickness benefits are payable to qualified railroad employees who are unable to work because of illness or injury. The collection obtains information from employees and physicians needed to determine eligibility to and the amount of such benefits.

Changes Proposed: The RRB proposes changes to Form ID-11A and ID-11B to add an item requesting clarifying information regarding why a claimant filed their claim late. A minor non-burden impacting change is proposed to Form S1-1a. No changes are proposed to Form(s) SI-1b, SI-3, SI-7, SI-8 and ID-7H.

The burden estimate for this ICR is unchanged as follows:

Estimated annual number of respondents: 44,600.

Total annual responses: 248,900.

Total annual reporting hours: 25,351.

For Further Information Contact: Copies of the form and supporting documents can be obtained from Charles Mierzwa, the agency clearance officer at (312-751-3363) or Charles.Mierzwa@rrb.gov.

Comments regarding the information collection should be addressed to Ronald J. Hodapp, Railroad Retirement Board, 844 North Rush Street, Chicago, Illinois, 60611-2092 or Ronald.Hodapp@RRB.gov and to the OMB Desk Officer for the RRB, at the Office of Management and Budget, Room 10230, New Executive Office Building, Washington, DC 20503.

Charles Mierzwa,
Clearance Officer.

[FR Doc. E7-5154 Filed 3-20-07; 8:45 am]

BILLING CODE 7905-01-P